Proclamation 10860 of November 15, 2024

National Apprenticeship Week, 2024

By the President of the United States of America

A Proclamation

America's workers are the best in the world—and that is in no small part due to our exceptional Registered Apprenticeship programs. During National Apprenticeship Week, we recommit to supporting these programs, which put so many Americans on a path to securing good-paying jobs and helping build the industries of the future.

I have often said that the middle class built America and unions built the middle class, and Registered Apprenticeship programs—including the hundreds of union-run programs—have produced some of our Nation's most skilled workers for generations. Registered Apprenticeships empower workers to hone their skills or gain new ones by allowing them to earn while they learn and connecting them to good-paying jobs. These apprenticeships have given so many of our workers the opportunity to work with dignity and care for their families all while training our workforce to build the industries of our future, like clean energy or cybersecurity.

My Administration made the largest Federal investment in our Nation's history in Registered Apprenticeships. Since taking office, we have invested more than $730 million to expand Registered Apprenticeships, leading to the hiring of more than one million apprentices across the country. More than $80 billion has been committed from my American Rescue Plan to strengthen and expand the workforce, including to expand Registered Apprenticeship and pre-apprenticeship programs. We are also creating opportunities for apprentices through our Bipartisan Infrastructure Law and our Inflation Reduction Act, which provides strong incentives for employers to hire Registered Apprentices in their clean energy projects.

Further, my Administration is making sure that Registered Apprentices are helping build the industries of the future and fulfill needs in critical industries. Our Advanced Manufacturing Sprint and Investing in America Workforce Hubs launched intensive drives to build a diverse, skilled pipeline of workers for advanced manufacturing jobs, including union jobs—many of which do not require a 4-year college degree. To do that, we have been bringing together unions, local governments, employers, training providers, K-12 schools, community colleges, and other stakeholders to train and connect workers to jobs in high-demand sectors. For teachers, my Administration has helped expand teacher Registered Apprenticeship programs to 46 States, to help train the next generation of educators. For construction workers, the Department of Labor's Scaling Apprenticeship Readiness Across the Building Trades Initiative is enrolling thousands of Americans to help rebuild our Nation's roads, bridges, and highways. For truck drivers, we held a 90-Day Trucking Apprenticeship Challenge, which helped get more drivers on the road. And for cybersecurity professionals, we completed a 120-Day Cybersecurity Apprenticeship Sprint, which has helped thousands get hired in industries that protect Americans from cyberthreats.

My Administration is also ensuring our Registered Apprentices reflect the diversity of America. Our Apprenticeship Ambassador Initiative is working with more than 200 organizations committed to hiring 10,000 new apprentices and recruiting people from historically underrepresented communities for apprenticeship programs. And through the Department of Labor's Women in Apprenticeship and Nontraditional Occupations grant program, we are continuing to invest in women in the skilled trades, who are too often underrepresented. Thanks to these efforts, the number of women in apprenticeships will soon surpass 100,000 for the first time ever.

Supporting Registered Apprenticeships is about doing what our Nation does best—investing in America and America's workers. This week, we celebrate apprentices nationwide, whose hard work has contributed so much to our Nation's economy and prosperity. May we continue to support these programs, which have created endless possibilities for Americans.

NOW, THEREFORE, I, JOSEPH R. BIDEN JR., President of the United States of America, by virtue of the authority vested in me by the Constitution and the laws of the United States, do hereby proclaim November 17 through November 23, 2024, as National Apprenticeship Week. I urge the Congress, State and local governments, educational institutions, industry and labor leaders, apprentices, and all Americans to support Registered Apprenticeship programs in the United States of America and to raise awareness of their importance in building a diverse and robust workforce to strengthen our national economy.

IN WITNESS WHEREOF, I have hereunto set my hand this fifteenth day of November, in the year of our Lord two thousand twenty-four, and of the Independence of the United States of America the two hundred and forty-ninth.

[FR Doc. 2024-27307

Filed 11-19-24; 8:45 am]

Billing code 3395-F4-P